DEPARTMENT OF HEALTH AND HUMAN SERVICES

National Institutes of Health

National Cancer Institute; Amended Notice of Meeting

Notice is hereby given of a change in the meeting of the National Cancer Institute Special Emphasis Panel, July 7, 2015, 11:00 a.m. to July 08, 2015, 06:00 p.m., National Cancer Institute Shady Grove, Shady Grove, 9609 Medical Center Drive, 2W032/034, Rockville, MD, 20850 which was published in the Federal Register on May 15, 2015 (80 FR 27982).

The meeting notice is amended to change the dates of the meeting to July 30-31, 2015 from 11:00 a.m. to 6:00 p.m. The meeting is closed to the public.

Dated: June 4, 2015.
Melanie J. Gray,
Program Analyst, Office of Federal Advisory Committee Policy.

[FR Doc. 2015-14042 Filed 6-8-15; 8:45 a.m.]

BILLING CODE 4140-01-P